FEDERAL MINE SAFETY AND HEALTH REVIEW COMMISSION

Sunshine Act Notice

May 24, 2019.

TIME AND DATE: 10:00 a.m., Tuesday, June 4, 2019.

PLACE: The Richard V. Backley Hearing Room, Room 511N, 1331 Pennsylvania Avenue NW, Washington, DC 20004 (enter from F Street entrance).

STATUS: Open.

MATTERS TO BE CONSIDERED: The Commission will hear oral argument in the matter McNary v. Alcoa World Alumina, LLC, Docket No. CENT 2015-279-DM. (Issues include whether the Judge erred by determining that the complainant had failed to establish interference with his rights under the Mine Act.)

Any person attending this oral argument who requires special accessibility features and/or auxiliary aids, such as sign language interpreters, must inform the Commission in advance of those needs. Subject to 29 CFR 2706.150(a)(3) and § 2706.160(d).

CONTACT PERSON FOR MORE INFO: Emogene Johnson (202) 434-9935/(202) 708-9300 for TDD, Relay/1-800-877-8339 for toll free.

PHONE NUMBER FOR LISTENING TO MEETING: 1-(866) 867-4769, Passcode: 678-100

Sarah L. Stewart,
Deputy General Counsel.

[FR Doc. 2019-11257 Filed 5-24-19; 11:15 am]

BILLING CODE 6735-01-P